DEPARTMENT OF COMMERCE

National Oceanic and Atmospheric Administration

RIN 0648-XH048

Pacific Fishery Management Council; Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet June 19-25, 2019. The Pacific Council meeting will begin on Thursday, June 20, 2019 at 9 a.m. Pacific Daylight Time (PDT), reconvening at 8 a.m. each day through Tuesday, June 25, 2019. All meetings are open to the public, except a closed session will be held from 8 a.m. to 9 a.m., Thursday, June 20 to address litigation and personnel matters. The Pacific Council will meet as late as necessary each day to complete its scheduled business.

ADDRESSES: Meetings of the Pacific Council and its advisory entities will be held at the DoubleTree by Hilton Mission Valley, 7450 Hazard Center Drive, San Diego, CA; telephone: (619) 297-5466.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council website, http://www.pcouncil.org for the current meeting location, proposed agenda, and meeting briefing materials.

SUPPLEMENTARY INFORMATION: The June 19-25, 2019 meeting of the Pacific Council will be streamed live on the internet. The broadcasts begin initially at 9 a.m. PST Thursday, June 20, 2019 and continue at 8 a.m. daily through Tuesday, June 25, 2019. Broadcasts end daily at 5 p.m. PDT or when business for the day is complete. Only the audio portion and presentations displayed on the screen at the Pacific Council meeting will be broadcast. The audio portion is listen-only; you will be unable to speak to the Pacific Council via the broadcast. To access the meeting online, please use the following link: http://www.gotomeeting.com/online/webinar/join-webinar and enter the June Webinar ID, 634-645-459, and your email address. You can attend the webinar online using a computer, tablet, or smart phone, using the GoToMeeting application. It is recommended that you use a computer headset to listen to the meeting, but you may use your telephone for the audio-only portion of the meeting. The audio portion may be attended using a telephone by dialing the toll number 1-562-247-8422 (not a toll-free number), audio access code 532-691-006, and entering the audio pin shown after joining the webinar.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, advisory entity meeting times, and meeting rooms are described in Agenda Item A.4, Proposed Council Meeting Agenda, and will be in the advance June 2019 briefing materials and posted on the Pacific Council website at www.pcouncil.org no later than Monday, June 3, 2019.

A. Call to Order

1. Opening Remarks

2. Roll Call

3. Executive Director's Report

4. Approve Agenda

B. Open Comment Period

1. Comments on Non-Agenda Items

C. Habitat

1. Current Habitat Issues

D. Administrative Matters

1. Council Coordination Committee Meeting Report

2. Update on Implementation of the Modernizing Recreational Fisheries Management Act of 2018

3. Legislative Matters

4. Allocation Review Procedures—Final Action

5. Phased-In Approaches to Changing Catch Limits—Scoping

6. Electronic Monitoring Program Procedural Directive

7. Fiscal Matters

8. Approval of Council Meeting Record

9. Membership Appointments and Council Operating Procedures

10. Future Council Meeting Agenda and Workload Planning

E. Enforcement

1. Annual U.S. Coast Guard Fishery Enforcement Report

F. Coastal Pelagic Species Management

1. National Marine Fisheries Report

2. Stock Assessment Prioritization Process

3. Pacific Mackerel Assessment, Harvest Specifications, and Management Measures—Final Action

4. Review of Management Categories

G. Salmon Management

1. Rebuilding Plans

2. Southern Resident Killer Whale Endangered Species Act Consultation Progress Report

H. Pacific Halibut Management

1. Commercial Directed Fishery Transition Process and Workshop Planning

I. Groundfish Management

1. National Marine Fisheries Service Report

2 Workload and New Management Measure Update

3. Trawl Logbook Requirement

4. Groundfish Endangered Species Workgroup Report

5. Endangered Species Act Seabird Mitigation Measures—Final Action

6. Biennial Harvest Specifications and Management Measures Process for 2021-22 Fisheries

7. Inseason Adjustments—Final Action

J. Highly Migratory Species Management

1. National Marine Fisheries Service Report

2. Recommend International Management Activities

3. Yellowfin Tuna Overfishing Response

4. Drift Gillnet Performance Metrics Review

5 Exempted Fishing Permits

6. Deep-Set Buoy Gear Authorization

Advisory Body Agendas

Advisory body agendas will include discussions of relevant issues that are on the Pacific Council agenda for this meeting, and may also include issues that may be relevant to future Council meetings. Proposed advisory body agendas for this meeting will be available on the Pacific Council website http://www.pcouncil.org/council-operations/council-meetings/current-briefing-book/ no later than Monday June 3, 2019.

Schedule of Ancillary Meetings

Day 1—Wednesday, June 19, 2019

Coastal Pelagic Species Advisory Subpanel—8 a.m.

Coastal Pelagic Species Management Team—8 a.m.

Habitat Committee—8 a.m.

Scientific and Statistical Committee—8 a.m.

Legislative Committee—10 a.m.

Budget Committee—1 p.m.

Day 2—Thursday, June 20, 2019

California State Delegation—7 a.m.

Oregon State Delegation—7 a.m.

Washington State Delegation—7 a.m.

Coastal Pelagic Species Advisory Subpanel—8 a.m.

Coastal Pelagic Species Management Team—8 a.m.

Salmon Advisory Subpanel—8 a.m.

Salmon Technical Team—8 a.m.

Scientific and Statistical Committee—8 a.m.

Enforcement Consultants—3 p.m.

Day 3—Friday, June 21, 2019

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Enforcement Consultants—Ad Hoc

Day 4—Saturday, June 22, 2019

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Enforcement Consultants—Ad Hoc

Day 5—Sunday, June 23, 2019

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Enforcement Consultants—Ad Hoc

Day 6—Monday, June 24, 2019

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Enforcement Consultants—Ad Hoc

Day 7—Tuesday, June 25, 2019

California State Delegation—7 a.m.

Oregon State Delegation—7 a.m.

Washington State Delegation—7 a.m.

Although non-emergency issues not contained in this agenda may come before the Pacific Council for discussion, those issues may not be the subject of formal Council action during this meeting. Council action will be restricted to those issues specifically listed in this notice and any issues arising after publication of this notice that require emergency action under Section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2411 at least 10 business days prior to the meeting date.

Dated: May 23, 2019.
Tracey L. Thompson,
Acting Deputy Director, Office of Sustainable Fisheries, National Marine Fisheries Service.

[FR Doc. 2019-11150 Filed 5-28-19; 8:45 am]

BILLING CODE 3510-22-P